DEPARTMENT OF ENERGY

Federal Energy Regulatory Commission

[Project No. 13875-000]

Clean River Power 16, LLC; Notice of Preliminary Permit Application Accepted for Filing and Soliciting Comments, Motions To Intervene, and Competing Applications

November 8, 2010.

On October 22, 2010, Clean River Power 16, LLC filed an application for a preliminary permit, pursuant to section 4(f) of the Federal Power Act, proposing to study the feasibility of the Kitano Water Power Project, located in Kauai County, in the state of Hawaii. The sole purpose of a preliminary permit, if issued, is to grant the permit holder priority to file a license application during the permit term. A preliminary permit does not authorize the permit holder to perform any land disturbing activities or otherwise enter upon lands or waters owned by others without the owners' express permission.

The proposed project would consist of the following developments:

(1) The existing Kokee Ditch Irrigation System comprised of multiple intakes, two reservoirs, and a series of ditches and tunnels; (2) a new upper intake including a trashrack and control gate; (3) a new 26,700-foot-long, 36-inch-diameter steel penstock; (4) a proposed 40-foot-long and 75-foot-wide upper powerhouse made with reinforced concrete; (5) a 4 MVA 4.16/695kV three-phase step-up transformer located in a switchyard 50 feet from the powerhouse; (6) dependent on the results of the proposed studies, a new 2-mile transmission line interconnecting with the existing utility transmission line between the Kahaka switchyard and the Kaumakani substation; (7) The proposed development would have an average annual generation of 23,100 megawatt-hours.

Applicant Contact: Daniel Irvin, CEO, Free Flow Power Corporation, 33 Commercial Street, Gloucester, MA 01930; phone: (978) 252-7631.

FERC Contact: Mary Greene, 202-502-8865.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13875) in the docket number field to access the document. For assistance, contact FERC Online Support.

Kimberly D. Bose,
Secretary.

[FR Doc. 2010-28908 Filed 11-16-10; 8:45 am]

BILLING CODE 6717-01-P